DEPARTMENT OF AGRICULTURE

Rural Business-Cooperative Service

7 CFR Part 4274

Direct and Insured Loanmaking

CFR Correction

In Title 7 of the Code of Federal Regulations, Part 2000 to End, revised as of January 1, 2011, on page 746, in § 4274.338, paragraph (b)(4)(ii)(D) is added to read as follows:

§ 4274.338 Loan agreements between the Agency and the intermediary.

* * * * *

(b) * * *

(4) * * *

(ii) * * *

(D) An annual report on the extent to which increased employment, income and ownership opportunities are provided to low-income persons, farm families, and displaced farm families for each loan made by such intermediary.

* * * * *

[FR Doc. 2011-33527 Filed 12-28-11; 8:45 am]

BILLING CODE 1505-01-D